DEPARTMENT OF ENERGY

Federal Energy Regulatory Commission

Combined Notice of Filings #2

Take notice that the Commission received the following electric rate filings:

Docket Numbers: ER17-2563-000.

Applicants: Southwest Power Pool, Inc.

Description: Section 205(d) Rate Filing: Tariff Clean-Up Filing 3Q2017 to be effective 12/1/2017.

Filed Date: 9/29/17.

Accession Number: 20170929-5113.

Comments Due: 5 p.m. ET 10/20/17.

Docket Numbers: ER17-2564-000.

Applicants: Wabash Valley Power Association, Inc.

Description: September 205(d) Rate Filing: Formulary Rate Change—Section 1 to be effective 1/1/2018.

Filed Date: 9/29/17.

Accession Number: 20170929-5128.

Comments Due: 5 p.m. ET 10/20/17.

Docket Numbers: ER17-2565-000.

Applicants: Southern California Edison Company.

Description: Section 205(d) Rate Filing: Amendment No. 1 to WAPA Lease Agreement for Hoover to Mead Transmission Lines to be effective 9/30/2017.

Filed Date: 9/29/17.

Accession Number: 20170929-5129.

Comments Due: 5 p.m. ET 10/20/17.

Docket Numbers: ER17-2567-000.

Applicants: PacifiCorp.

Description: Tariff Cancellation: Term of PacifiCorp Energy Construction Agmt—Granite Mtn Solar to be effective 12/11/2017.

Filed Date: 9/29/17.

Accession Number: 20170929-5169.

Comments Due: 5 p.m. ET 10/20/17.

Docket Numbers: ER17-2568-000.

Applicants: California Independent System Operator Corporation.

Description: Section 205(d) Rate Filing: 2017-09-29 Aliso Canyon Phase 3 Electric-Gas Coordination Enhancement Amendment to be effective 11/30/2017.

Filed Date: 9/29/17.

Accession Number: 20170929-5179.

Comments Due: 5 p.m. ET 10/20/17.

Docket Numbers: ER17-2569-000.

Applicants: ISO New England Inc., New England Power Pool Participants Commission.

Description: Section 205(d) Rate Filing: Change to NCPC Calculation for Ramp Constrained Down Resources to be effective 12/1/2017.

Filed Date: 9/29/17.

Accession Number: 20170929-5181.

Comments Due: 5 p.m. ET 10/20/17.

Docket Numbers: ER17-2570-000.

Applicants: NEO Freehold-Gen LLC.

Description: Tariff Cancellation: Notice of Cancellation to be effective 9/30/2017.

Filed Date: 9/29/17.

Accession Number: 20170929-5193.

Comments Due: 5 p.m. ET 10/20/17.

Docket Numbers: ER17-2571-000.

Applicants: Duke Energy Florida, LLC.

Description: Section 205(d) Rate Filing: Revisions to RS No. 194 and No. 213, and RS No. 226 (SECI) to be effective 1/1/2018.

Filed Date: 9/29/17.

Accession Number: 20170929-5194.

Comments Due: 5 p.m. ET 10/20/17.

Docket Numbers: ER17-2572-000.

Applicants: Imperial Valley Solar 3, LLC.

Description: Section 205(d) Rate Filing: Imperial Valley Solar 3, LLC MBR Supplement to be effective 9/9/2017; also filed was a Supplement to September 29, 2017 Imperial Valley Solar 3, LLC tariff filing.

Filed Date: 9/29/17.

Accession Number: 20170929-5195, 20170929-5211.

Comments Due: 5 p.m. ET 10/20/17.

Docket Numbers: ER17-2573-000.

Applicants: Appalachian Power Company.

Description: Section 205(d) Rate Filing: OATT—Revise Attachment K, AEP Texas Inc. Rate Update to be effective 12/31/9998.

Filed Date: 9/29/17.

Accession Number: 20170929-5197.

Comments Due: 5 p.m. ET 10/20/17.

Docket Numbers: ER17-2574-000.

Applicants: PJM Interconnection, L.L.C.

Description: Section 205(d) Rate Filing: Original Service Agreement No. 4796; NQ148 (Cost Responsibility Agreement) to be effective 9/21/2017.

Filed Date: 9/29/17.

Accession Number: 20170929-5201.

Comments Due: 5 p.m. ET 10/20/17.

Docket Numbers: ER17-2576-000.

Applicants: Southern California Edison Company.

Description: Section 205(d) Rate Filing: SCE MWD Replacement Agreements and Notices of Cancellation to be effective 10/1/2017.

Filed Date: 9/29/17.

Accession Number: 20170929-5209.

Comments Due: 5 p.m. ET 10/20/17.

Docket Numbers: ER17-2577-000.

Applicants: York Haven Power Company, LLC.

Description: Baseline eTariff Filing: MBR Application to be effective 11/29/2017.

Filed Date: 9/29/17.

Accession Number: 20170929-5251.

Comments Due: 5 p.m. ET 10/20/17.

Docket Numbers: ER17-2578-000.

Applicants: Pacific Gas and Electric Company.

Description: Tariff Cancellation: Termination of Shelter Cove Resort Improvement District No. 1 IA and WDT (SA 40) to be effective 11/30/2017.

Filed Date: 9/29/17.

Accession Number: 20170929-5269.

Comments Due: 5 p.m. ET 10/20/17.

Docket Numbers: ER17-2580-000.

Applicants: SEMASS Partnership.

Description: Baseline eTariff Filing: Application for Market-Based Rate Authorization to be effective 11/29/2017.

Filed Date: 9/29/17.

Accession Number: 20170929-5274.

Comments Due: 5 p.m. ET 10/20/17.

Docket Numbers: ER17-2581-000.

Applicants: Pacific Gas and Electric Company.

Description: Section 205(d) Rate Filing: Shelter Cove Improvement District No. 1 IA and WDT SA (SA No. 382) to be effective 12/1/2017.

Filed Date: 9/29/17.

Accession Number: 20170929-5277.

Comments Due: 5 p.m. ET 10/20/17.

Docket Numbers: ER17-2582-000.

Applicants: New England Power Pool Participants Committee.

Description: Section 205(d) Rate Filing: Oct 2017 Membership Filing to be effective 10/1/2017.

Filed Date: 9/29/17.

Accession Number: 20170929-5280.

Comments Due: 5 p.m. ET 10/20/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 29, 2017.
Nathaniel J. Davis, Sr.,
Deputy Secretary.

[FR Doc. 2017-21870 Filed 10-10-17; 8:45 am]

BILLING CODE 6717-01-P